FEDERAL COMMUNICATIONS COMMISSION

47 CFR Part 73

[DA 03-2762, MB Docket No. 02-83, RM-10404]

Digital Television Broadcast Service; Sault Saint Marie, MI

AGENCY: Federal Communications Commission.

ACTION: Final rule.

SUMMARY: The Commission, at the request of Scanlan Television, Inc., substitutes DTV channel 9c for DTV channel 56 at Sault Saint Marie, Michigan. See 67 FR 20941, April 29, 2002. DTV channel 9c can be allotted to Sault Saint Marie in compliance with the principle community coverage requirements of § 73.625(a) at reference coordinates 46-03-08 N. and 84-06-38 W. with a power of 24, HAAT of 291 meters and with a DTV service population of 84 thousand. Since the community of Sault Saint Marie is located within 400 kilometers of the U.S.-Canadian border, concurrence from the Canadian government has been obtained for this allotment. With this action, this proceeding is terminated.

DATES: Effective October 20, 2003.

FOR FURTHER INFORMATION CONTACT: Pam Blumenthal, Media Bureau, (202) 418-1600.

SUPPLEMENTARY INFORMATION: This is a synopsis of the Commission's Report and Order, MB Docket No. 02-83, adopted August 28, 2003, and released September 4, 2003. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Digital Television Allotments under Michigan, is amended by removing DTV channel 56 and adding DTV channel 9c at Sault Saint Marie.

Federal Communications Commission.
Barbara A. Kreisman,
Chief, Video Division, Media Bureau.

[FR Doc. 03-22966 Filed 9-9-03; 8:45 am]

BILLING CODE 6712-01-P